Title 3—

The President

Proclamation 9853 of March 29, 2019

Cancer Control Month, 2019

By the President of the United States of America

A Proclamation

During Cancer Control Month, we recognize the fearless spirit of millions of Americans who are battling cancer and celebrate the nearly 17 million cancer survivors who are alive today. We also solemnly remember and honor the memory of those beloved family members, friends, and neighbors who have been taken from us by this terrible disease. As I have said many times, our Nation will never give up our search for effective and innovative medical procedures to treat and prevent all forms of cancer.

Last year, more than 1.7 million Americans were diagnosed with some form of cancer and over 600,000 lost their lives to this disease—the second leading cause of death in the United States. There are, however, many hopeful signs of progress. The combined rate of death from all cancers continues to decline among both men and women, and death rates for many of the most common types of cancer—including lung, colon, and breast—are trending downward. These encouraging statistics reflect the outstanding work of our Nation's dedicated healthcare professionals to diagnose cancers at earlier stages and to improve prevention and treatment.

Americans can take important steps to decrease their risk of developing cancer. Maintaining a normal weight, practicing healthy eating habits, and engaging in regular physical activity are critical to preventing kidney, endometrial, esophageal, colon, and other forms of cancer. Avoiding the use of tobacco and excessive consumption of alcohol can also help the body prevent and fight cancers. Americans should also discuss their family health histories with their doctors and get recommended cancer screenings, which can lead to early diagnosis and help increase the odds of beating the disease.

My Administration is committed to supporting cutting-edge research and groundbreaking medical advances and treatments that better help cancer patients. Researchers at the National Institutes of Health are actively pursuing new approaches for the diagnosis and treatment of cancers, with special emphasis in the developing fields of genomics, precision medicine, and immunotherapy. Last year, I signed into law the Childhood Cancer Survivorship, Treatment, Access, and Research Act of 2018 to advance research on childhood cancers and effective treatments, support survivors, and better identify and track pediatric cancer rates. I also signed into law “Right to Try” legislation, which provides people diagnosed with terminal illnesses expanded options for care and treatment. And I am working with the Congress to invest $500 million over the next decade in cancer-related research to enable our Nation's best scientists and doctors to learn from every child with cancer, creating new opportunities to understand the unique causes of and find the best cures for childhood cancer.

We will control and defeat cancer, which has inflicted devastating suffering on too many American families. I have complete confidence in our Nation's innovators and scientists to overcome every challenge as they work day in and day out to rid us of this disease. Together, we will find the long-sought cure and eradicate the pain and death caused by the scourge of cancer.

NOW, THEREFORE, I, DONALD J. TRUMP, President of the United States of America, by virtue of the authority vested in me by the Constitution and the laws of the United States, do hereby proclaim April 2019 as Cancer Control Month. I call upon the people of the United States to speak with their doctors and healthcare providers to learn more about preventative measures that can save lives. I encourage citizens, government agencies, private businesses, nonprofit organizations, and other interested groups to join in activities that will increase awareness of what Americans can do to prevent and control cancer. I also invite the Governors of the States and Territories and officials of other areas subject to the jurisdiction of the United States to join me in recognizing Cancer Control Month.

IN WITNESS WHEREOF, I have hereunto set my hand this twenty-ninth day of March, in the year of our Lord two thousand nineteen, and of the Independence of the United States of America the two hundred and forty-third.

[FR Doc. 2019-06806

Filed 4-3-19; 11:15 am]

Billing code 3295-F9-P